DEPARTMENT OF COMMERCE

Foreign-Trade Zones Board

[B-58-2022]

Foreign-Trade Zone (FTZ) 151; Authorization of Production Activity; Procter & Gamble Manufacturing Company; (Industrial Perfumes/Fragrance Mixtures); Lima, Ohio

On December 2, 2022, Procter & Gamble Manufacturing Company submitted a notification of proposed production activity to the FTZ Board for its facility within FTZ 151 in Lima, Ohio.

The notification was processed in accordance with the regulations of the FTZ Board (15 CFR part 400), including notice in the Federal Register inviting public comment (87 FR 76459, December 14, 2022). On April 3, 2023, the applicant was notified of the FTZ Board's decision that no further review of the activity is warranted at this time. The production activity described in the notification was authorized, subject to the FTZ Act and the FTZ Board's regulations, including Section 400.14.

Dated: April 3, 2023.
Elizabeth Whiteman,
Acting Executive Secretary.

[FR Doc. 2023-07251 Filed 4-5-23; 8:45 am]

BILLING CODE 3510-DS-P